OFFICE OF NATIONAL DRUG CONTROL POLICY

Technology Innovations for Substance Abuse and Mental Health Treatment Conference & Related Health Information Technology (HIT) Meeting

AGENCY: Office of National Drug Control Policy.

ACTION: Notice.

Location: Eisenhower Executive Office Building, South Court Auditorium.

DATES: Monday, September 16, 2013; Tuesday September 17, 2013.

Time: 8:00 a.m.-5:00 p.m.; 9:00 a.m.-1:00 p.m.

SUMMARY: The Office of National Drug Control Policy (ONDCP) and the Substance Abuse and Mental Health Administration (SAMHSA) in partnership with the Office of the National Coordinator for Health Information Technology, and the National Institutes of Health's Office of Behavioral and Social Sciences Research, will host a Technology Innovations for Substance Abuse and Mental Health Treatment Conference highlighting promising innovations for treating these disorders. This conference will bring together innovators in technology and health care experts promoting the dissemination of innovative, evidence-based technologies that advance prevention, treatment, and recovery for these disorders. The conference will be held on September 16, 2013 from 8:00 a.m. to 5:00 p.m. in the South Court Auditorium, Eisenhower Executive Office Building, 17th Street and Pennsylvania Avenue NW., Washington DC, 20500.

The goal of this conference is to highlight advances in health information technologies (HIT) for behavioral health, and promote technology advances and dissemination of evidence-based tools that address patient safety and the advancement of successful prevention, treatment and recovery. The specific conference objectives are to: (1) Promote evidence-based tools to advance treatment of substance use and mental health disorders; (2) advance the Administration's 2010 National Drug Control Strategy blueprint and the HIT initiatives at SAMHSA and the Office of the National Coordinator; and (3) encourage the use of technologies to improve health, improve quality of care, and increase patient engagement.

On Tuesday, September 17, SAMHSA and ONDCP are holding a smaller meeting with state representatives and health system administrators on HIT systems to discuss technical issues and obtain experiential and anecdotal information from each of the attendees. This group will not be deliberating or providing consensus advice or recommendations to SAMHSA or ONDCP. The meeting will be held 9:00 a.m. to 1:00 p.m. in the 5th Floor Conference Room of ONDCP at 750 17th Street NW., Washington DC, 20503.

Members of the public who wish to attend on either day are required to call ONDCP's Technology Innovations for Substance Abuse and Mental Health Treatment Conference telephone line at (202) 395-5696 to reserve a seat and arrange building access by no later than Monday, September 9, 2013. Seating for members of the public is limited and will be assigned on a first call, first served basis. The September 16 conference will be live-streamed on-line for members of the public who wish to observe, and conference material will be available to the public following the meeting. Go to http://www.whitehouse.gov/ondcp for more information.

To Attend or For Further Information

Contact: June Sivilli at (202) 395-5696 or email rsvpITSept16@ondcp.eop.gov.

Dated: August 27, 2013.
Daniel S. Rader,
Deputy General Counsel.

[FR Doc. 2013-21213 Filed 8-29-13; 8:45 am]

BILLING CODE 3180-F3-P